GENERAL SERVICES ADMINISTRATION

48 CFR Parts 532 and 552

[GSAR Case 2023-G506; Docket No. GSA-GSAR-2023-0015; Sequence No. 1]

General Services Administration Acquisition Regulation; Remove Purchase Card Payment Clause

AGENCY: Office of Acquisition Policy, General Services Administration (GSA).

ACTION: Final rule; technical amendment.

SUMMARY: The General Services Administration is issuing this final rule as a technical amendment to remove clause 552.232-77 Payment by Government Charge Card in the General Services Administration Acquisition Regulation.

DATES: Effective August 7, 2023.

FOR FURTHER INFORMATION CONTACT: For clarification of content, contact Ms. Daria Giannotti, Procurement Analyst, at 215-446-2878 or GSARPolicy@gsa.gov. For information pertaining to status or publication schedules, contact the Regulatory Secretariat Division at GSARegSec@gsa.gov or 202-501-4755. Please cite GSAR Case 2023-G506.

SUPPLEMENTARY INFORMATION:

I. Background

The General Services Administration conducts routine reviews of its acquisition regulations to identify outdated content and to ensure there is no unnecessary duplication of or conflict with the Federal Acquisition Regulation (FAR), pursuant to FAR 1.304. As part of this review, GSA identified:

• General Services Administration Regulation (GSAR) clause 552.232-77 Payment By Government Charge Card is redundant to FAR clause 52.232-36 Payment by Third Party and should be removed. As this GSAR clause is over 10 years old, GSA does not have any historical information that explains why the duplicative GSAR clause was initially created. This rule rectified the issue.

• Additionally, language regarding internal solicitation preparation instructions was identified that only addresses responsibilities of contracting officers in preparing contract documentation. As such, it is not regulatory material and removed from the GSAR.

Overview of Editorial Updates

GSA identified that GSA Clause 552.232-77, Payment by Government Charge Card, was redundant to FAR clause 52.232-36 Payment by Third Party and was removed. Consequently, 532.7003 was revised to remove instructions to use 552.232-77 for indefinite-delivery, indefinite-quantity (IDIQ) contracts other than Multiple Award Schedule (MAS) contracts.

• MAS, also known as the Federal Supply Schedule (FSS) and the GSA Schedule, is a long-term governmentwide contract with commercial companies that provide access to millions of commercial products and services at fair and reasonable prices to the Federal Government.

Additionally, in GSAR subpart 532.70, 532.7002 only addresses responsibilities of contracting officers in preparing contract documentation regarding payment through the use of the Governmentwide commercial purchase cards. As such, it is not regulatory material and was moved from the GSAR to the non-regulatory GSAM.

II. Publication of This Final Rule for Public Comment Is Not Required by Statute

The statute that applies to the publication of the Federal Acquisition Regulation (FAR) is 41 U.S.C. 1707. Subsection (a)(1) of 41 U.S.C. 1707 requires that a procurement policy, regulation, procedure, or form (including an amendment or modification thereof) must be published for public comment if it relates to the expenditure of appropriated funds, and has either a significant effect beyond the internal operating procedures of the agency issuing the policy, regulation, procedure, or form, or has a significant cost or administrative impact on contractors or offerors. This final rule is not required to be published for public comment because the change is technical in nature and makes conforming updates to the title and number of a referenced policy document.

III. Executive Orders 12866 and 13563

Executive Orders (E.O.s) 12866 and 13563 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. The Office of Information and Regulatory Affairs (OIRA) in the Office of Management and Budget (OMB) has determined that this is not a significant regulatory action and, therefore, was not subject to review under Section 6(b) of Executive Order 12866, Regulatory Planning and Review, dated September 30, 1993.

IV. Congressional Review Act

The Congressional Review Act, 5 U.S.C. 801 et seq., as amended by the Small Business Regulatory Enforcement Fairness Act of 1996, generally provides that before a “major rule” may take effect, the agency promulgating the rule must submit a rule report, which includes a copy of the rule, to each House of the Congress and to the Comptroller General of the United States. The General Services Administration will submit a report containing this rule and other required information to the U.S. Senate, the U.S. House of Representatives, and the Comptroller General of the United States. A major rule cannot take effect until 60 days after it is published in the Federal Register.

The Office of Information and Regulatory Affairs in OMB has determined that this is not a major rule under 5 U.S.C. 804.

V. Regulatory Flexibility Act

The Regulatory Flexibility Act (5 U.S.C. 601 et seq.) does not apply to this rule, because an opportunity for public comment is not required to be given for this rule under 41 U.S.C. 1707(a)(1) (see Section II. of this preamble). Accordingly, no regulatory flexibility analysis is required and none has been prepared.

VI. Paperwork Reduction Act

The Paperwork Reduction Act does not apply because the changes to the GSAR do not impose recordkeeping or information collection requirements, or the collection of information from offerors, contractors, or members of the public that require the approval of the Office of Management and Budget under 44 U.S.C. 3501, et seq.

List of Subjects in 48 CFR Parts 532 and 552

Government procurement.

Jeffrey A. Koses,
Senior Procurement Executive, Office of Acquisition Policy, Office of Government-wide Policy, General Services Administration.

Therefore, GSA amends 48 CFR parts 532 and 552 as follows:

1. The authority citation for 48 CFR parts 532 and 552 continues to read as follows:

Authority: 40 U.S.C. 121(c).

PART 532—CONTRACT FINANCING

2. Revise section 538.7002 to read as follows:

532.7002 Solicitation requirements.

(a) In solicitations for supplies and services, except FSS schedule solicitations, request offerors to indicate if they will accept payment by Governmentwide commercial purchase card. Identify the card brand(s) under the GSA SmartPay® program that may be used to make payments under the contract, on the cover page or in Section L of the solicitation.

(b) For FSS schedule contracts, identify the card brand(s) under the GSA SmartPay® program that may be used to make payments under the contract in the contract award letter.

(c) For orders placed by GSA, you may authorize payment by Governmentwide commercial purchase card only for orders that do not exceed $100,000 (see GSA Order, Guidance on Use of the Credit Card for Purchases (CFO 4200.1)).

(d) Consider requesting offerors to designate different levels for which they may accept payment by Governmentwide commercial purchase card, for example:

“If awarded a contract under this solicitation, the offeror agrees to accept payment by Governmentwide commercial purchase card for orders of:

__ $2,500 or less

__ $25,000 or less

__ $50,000 or less

__ $100,000 or less]”

532.7003 [Amended]

3. Amend section 532.7003 by removing the first sentence.

PART 552—SOLICITATION PROVISIONS AND CONTRACT CLAUSES

552.232-77 [Removed and Reserved]

4. Remove and reserve section 552.232-77.

[FR Doc. 2023-14142 Filed 7-6-23; 8:45 am]

BILLING CODE 6820-61-P